ENVIRONMENTAL PROTECTION AGENCY

40 CFR Part 52

[VA126-5061; FRL-7391-5]

Approval and Promulgation of Air Quality Implementation Plans; Virginia; Revisions to the Ozone Maintenance Plan and Mobile Sources Emissions Budget for the Richmond Area

AGENCY: Environmental Protection Agency (EPA).

ACTION: Proposed rule.

SUMMARY: EPA is proposing to approve a State Implementation Plan (SIP) revision submitted by the Commonwealth of Virginia. This revision amends Virginia's ten-year plan to maintain the national ambient air quality standard (NAAQS) for ozone in the Richmond area. The maintenance plan is being amended to change the contingency measures portion and to identify measures taken in response to recorded violations of the 1-hour ozone NAAQS in the Richmond area. The maintenance plan is also being amended to substitute measures that establish a safety margin to retain the 2015 motor vehicle emissions budget for volatile organic compounds. This action is being taken under the Clean Air Act (the Act).

DATES: Written comments must be received on or before November 6, 2002.

ADDRESSES: Written comments may be mailed to Walter K. Wilkie, Deputy Branch Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Virginia Department of Environmental Quality, 629 East Main Street, Richmond, Virginia, 23219.

FOR FURTHER INFORMATION CONTACT: Christopher Cripps, (215) 814-2179, or via e-mail at cripps.christopher@epa.gov. While clarifying questions may be posed via e-mail, formal comments must be submitted, in writing, as indicated in the ADDRESSES section of this document.

SUPPLEMENTARY INFORMATION:

I. Background

What Is the History of the Maintenance Plan for the Richmond Area?

The Richmond area includes the following jurisdictions in Virginia: Henrico, Hanover, and Chesterfield Counties, part of Charles City County and the Cities of Richmond, Colonial Heights and Hopewell.¹ On November 17, 1997 (62 FR 61237), EPA approved the Commonwealth of Virginia's request to redesignate the Richmond moderate ozone nonattainment area to attainment, and also approved Virginia's 10-year plan for continued maintenance of the 1-hour ozone NAAQS in the Richmond area as a revision to the Virginia SIP.

¹ For the boundaries of the portion of Charles City County within the Richmond ozone maintenance area, see 40 CFR 81.347.

A provision of the Virginia maintenance plan requires the state to adopt and implement contingency measures in the event of a violation of the 1-hour ozone NAAQS. On June 5, 1998, EPA revoked the 1-hour ozone NAAQS, that is, as a legal matter, made the 1-hour standard not applicable. See 63 FR 31013, June 5, 1998. On September 18, 1998, the Richmond area violated the 1-hour ozone NAAQS. On August 1, 1999 a second monitor in the Richmond area recorded a violation of the 1-hour ozone NAAQS. However, in 1998 and 1999, at the time of the violations, the 1-hour ozone NAAQS had been revoked by EPA in all areas that had attained the standard, including the Richmond area.

On October 18, 2000, EPA reinstated the 1-hour ozone NAAQS in the Richmond area and notified Virginia that it was required to implement the contingency measures contained in the SIP-approved maintenance plan to address the violations that occurred in 1998 and 1999. See 65 FR 45182, July 20, 2000.

II. Content of the November 20, 2001 SIP Revision

When Did Virginia Submit the Revisions to the Contingency Plan and Substitute Measures for the 2015 Safety Margin?

On November 20, 2001, the Virginia Department of Environmental Quality (VA DEQ) submitted an amendment to the 1-hour ozone maintenance plan for the Richmond area to address the violation of the 1-hour ozone NAAQS, to revise the contingency measures part of the plan and to use different measures that establish a safety margin needed to support the 2015 volatile organic compound (VOC) motor vehicle emissions budgets.

What Did the Original Contingency Plan Require in the Event of an Exceedance or Violation of the 1-Hour Ozone NAAQS?

The original contingency measure section that was approved as part of the Richmond maintenance plan contained the following emission control measures that are to be implemented in response to recorded exceedances and violations of the ozone standard in the area:

1. Preparation of a comprehensive ozone precursor emissions inventory for the area, and implementation of a voluntary ozone advisory and action program.

2. Implementation of a basic motor vehicle inspection and maintenance (I/M) program.

3. Implementation of Reasonably Available Control Technologies (RACT) on major sources of NOX emissions.

4. Open burning restrictions and appropriate transportation control measures (TCMs).

The first has already been implemented with the ozone forecast and action program jointly administered by the VA DEQ and the Richmond Ridefinders organization. The first scheduled progress tracking emissions inventory for 1999 has been developed. Virginia's preliminary analysis of the 1999 emissions inventory for Richmond indicated that the emissions levels remain below the established attainment emissions caps.

In response to the 1998 and 1999 monitored violations of the 1-hour ozone standard in the Richmond area, the current contingency measure section calls for the implementation of a basic I/M program. The plan requires the basic I/M regulation to be adopted within 12 months of notification by EPA, and implemented within 8 months after adoption (for a total of twenty months upon notification from EPA). Based on the effective date of the reinstatement of the 1-hour standard of October 18, 2000, a contingency measure would have to be implemented in the Richmond area by no later than June 2002.

Why and How Has Virginia Changed the Contingency Plan Portion of the Richmond Maintenance Plan?

The Commonwealth has re-evaluated the contingency measures in the Richmond maintenance plan, and revised the contingency measure section of the maintenance plan through the November 20, 2001 SIP revision. As a result of this re-evaluation of the contingency plan, Virginia determined that a basic I/M program is a less effective and desirable contingency measure than originally anticipated. This is due to the limited emission reduction potential of such a program, along with the substantial administrative and implementation effort required to establish the program.

As a result, the Commonwealth revised the contingency measure section of the Richmond maintenance plan to contain the following list of contingency measures:

1. Voluntary ozone advisory and action program (implemented in 1996).

2. Open burning restrictions (implemented by state regulation in 2000). The Commonwealth is only using the VOC reductions from this measure as a contingency measure to address the violations that occurred in 1998 and 1999.

3. Emission standards for nonroad spark-ignition handheld engines—Phases 1 & 2 (Phase 1 implemented, Phase 2 to be implemented in 2002).

4. Reduction of oxides of nitrogen (NOX) from large utility and industrial sources or “NOX SIP Call” (to be implemented by Federal rule in 2003 or state regulation beginning in 2004). This measure replaces the NOX RACT contingency measure in the original contingency measure section.

If these measures do not provide for continued maintenance of the 1-hour standard, and this standard remains in effect for the Richmond area, the Virginia's revised continency plan calls for the evaluation of the feasibility and effectiveness of implementing the following additional contingency measures at that time:

1. TCMs.

2. Other measures to be determined.

What Is the History of the 2015 Motor Vehicle Emissions Budgets?

The Richmond maintenance plan must cover a ten-year period through calendar year 2007 and as a result establishes motor vehicle emissions budgets for 2007. These 2007 motor vehicle emissions budgets would apply for any conformity determination for any year after 2007 in the absence of specific budgets for years after 2007. On July 30, 1996, Virginia submitted a SIP revision modifying the motor vehicle emissions budgets in the Richmond maintenance plan for 2015 and later years.² In that revision, Virginia determined that emission reductions over and above that needed to demonstrate maintenance from other portions of the emissions inventory will occur during this time period even though mobile source emissions of NOX and VOC are predicted to rise in the year 2015 as vehicle travel increases. The July 30, 1996 revision relied on reductions from a ban on open burning and from national emission control programs on locomotive and marine engine sources to modify the 2015 mobile source emissions budgets.

² While the maintenance plan was required to cover out to 2007, transportation plans must show conformity for twenty years. Therefore, when the Richmond maintenance plan was submitted in 1996 conformity determinations had to consider a “horizon” as far out as 2017.

The additional emissions reductions from the open burning ban and the national control programs created a safety margin. For Richmond the safety margin for VOC emissions was 3.78 tons/day and for NOX was 6.64 tons/day. All these reductions from the area and non-road source categories were allocated to the motor vehicle emissions budget for the purposes of conformity determinations. The 2015 motor vehicle emissions budgets in the maintenance plan were increased to 35.64 tons/day for VOC emissions and 67.71 tons/day for NOX emissions. EPA approved these revised budgets on November 17, 1997 (62 FR 61237).

How Is the 2015 Safety Margin Being Sustained?

Because Virginia is now using the VOC emission reduction credits from open burning restrictions for contingency measure purposes, the 2015 VOC safety margin is now being revised to replace the emission reduction benefits (2.75 tons/day in 2015) from the open burning measure with equivalent benefits from the small nonroad gasoline-powered engine standards control program. The safety margin for NOX is not affected by the November 20, 2001 revision.

What Is the Status of the Open Burning Control Measure?

Virginia has implemented restrictions on certain open burning operations in the Richmond area starting with the calendar year 2000. The new restrictions prohibit as of January 1, 2000, open burning for the purpose of disposal of clean burning construction waste, debris waste, and demolition waste on the site of local landfills is prohibited in the Richmond Volatile Organic Compounds Emissions Control Area during June, July, and August.³ Virginia has adopted these requirements into its state code at 9 VAC 5 Chapter 40, Existing Stationary Sources, Part II, Emission Standards, Article 40, Emission Standards For Open Burning (Rule 4-40). This rule is both Federally and State enforceable. This rule was approved into the Virginia SIP on March 12, 1997 (62 FR 11334) and is codified at 40 CFR 52.2420(c)(113). Virginia did not rely upon this rule to demonstrate maintenance for the ten-year period ending calendar year 2007 that is covered by the maintenance plan for the Richmond area.

³ The Richmond Emissions Control Area for Volatile Organic Compounds consists of Charles City, Chesterfield, Hanover and Henrico Counties and the Cities of Colonial Heights, Hopewell, and Richmond. See 9 VAC 5-20-206.

However, Virginia did rely upon the VOC and NOX benefits from this measure to establish “long-range” (2015 and beyond) mobile source emissions budgets for the purpose of demonstrating transportation conformity.

Because Virginia is now using the VOC reductions from the open burning restrictions as a contingency measure to address the 1998 and 1999 violations of the ozone NAAQS, the same reductions can no longer be used to supplement the long-range transportation conformity motor vehicle emission budgets in the future. Therefore, through this SIP revision, Virginia has replaced these emission reductions from open burning restrictions in the long-range transportation budget with equivalent VOC reductions from the small gasoline engine standards that have been estimated to occur by 2015. The NOX reduction benefit from the open burning restrictions will be retained for long range conformity purposes.

Virginia did not rely upon this measure for its demonstration of maintenance.

What Are the Benefits From the Small Nonroad Gasoline-powered Engine Standards Control Program?

EPA promulgated emission standards for small nonroad gasoline-powered engine standards in two phases of control. EPA promulgated the Phase 1 final rule for handheld and non-handheld equipment on July 3, 1995, (60 FR 34582; codified at 40 CFR part 90). The phase 1 rule took effect for most new handheld and non-handheld engines beginning in model year 1997. EPA promulgated the Phase 2 rules for non-handheld equipment on March 30, 1999 (64 FR 15208; codified at 40 CFR part 90). These Phase 2 standards took effect for most new non-handheld engines beginning in model year 2001. EPA promulgated the Phase 2 rules for handheld equipment on April 25, 2000, (65 FR 24268; codified at 40 CFR part 90). These Phase 2 standards for took effect for most new handheld engines beginning in model year 2002.

Virginia did not rely upon these rules in its demonstration of maintenance through 2007 in the maintenance plan approved on November 17, 1997. The VA DEQ has determined that this measure will produce 3.84 tons per day of VOC emission reductions in 2002 and over 11 tons per day in 2015. VA DEQ is applying all of the 3.84 VOC emission reduction in 2002 as a contingency measure. In the revised maintenance plan, 2.75 tons per day of the total 11 plus tons per day of VOC emission reductions in 2015 from this measure are being used to maintain the safety margin necessary to support the 2015 VOC motor vehicle emissions budget. In effect, part of the 2015 VOC emission reductions are being substituted for the 2.75 tons per day of VOC emission reductions from the open burning measure in order to maintain the safety margin for the 2015 VOC motor vehicle emissions budgets.

What Would Have Been the Benefits From the Vehicle Inspection Maintenance Program?

The VA DEQ estimated that the basic biennial and decentralized I/M program in the original maintenance plan would produce a 1.23 ton/day reduction in VOC emissions and a 0.14 ton/day reduction in NOX emissions once the program is fully implemented.

How Does the Emission Reductions From the Current Contingency Measure Compare With the Revised Maintenance Plan?

Initial Contingency Plan (Reductions)
Basic Vehicle I/M Program | 1.23 tons/day | 0.14 tons/day
Revised Contingency Plan (Reductions beginning in 2000)
Open Burning Restrictions | 2.40 tons/day | Not Used.
Nonroad Engine Standards—Phase 1&2 | 3.81 tons/day | 0.01 tons/day.
NOX SIP Call | None | Up to 46 tons/day.

III. EPA's Evaluation of Virginia's SIP Revision

Because the Richmond area had violated the ozone NAAQS, Virginia was required to adopt and implement contingency measures to reduce emissions.

There are four ozone monitors in the Richmond area. These are in Charles City County, Hanover County, Henrico County and Chesterfield County. The monitors in Henrico and Charles City Counties are the only ones that have recorded a violation of the 1-hour ozone NAAQS since the area was redesignated to attainment in 1997: The Hanover County monitor recorded two exceedances of the 1-hour ozone NAAQS during the 1997 ozone season, two exceedances occurred during the1998 season and four in the 1999 season. The second exceedance recorded during 1998 ozone season constituted the violation of the 1-hour ozone NAAQS. The Charles City County monitor recorded no exceedances of the 1-hour ozone NAAQS during the 1997 and 1998 ozone seasons but recorded five during the 1999 season. The fourth exceedance recorded during 1999 ozone season constituted the violation of the 1-hour ozone NAAQS at this monitor.

Since the time of full implementation of the open burning restrictions in May of 2000, none of monitors in either Charles City or Hanover Counties have recorded an exceedance of the 1-hour ozone NAAQS. The other two monitors in the area have continued to show attainment. The control requirements for open burning restrictions have provided a sufficient level of emission reductions to maintain the 1-hour NAAQS and have strengthened the SIP. The Virginia revised contingency plan provided for earlier emission reduction than the original plan and provides for a continual reduction of VOC and NOX emissions over the same time frame.

Therefore, EPA believes that adequate contingency measures have been adopted and implemented for the Richmond area to prevent future violations of the 1-hour ozone NAAQS.

EPA's review of this material indicates Virginia has adopted adequate control measures. Virginia has substituted equivalent emission reductions for the basic I/M program. EPA believes that the proposed revisions to the Richmond maintenance plan will continue to provide attainment of the 1-hour ozone NAAQS in the future.

We are seeking public comments on this proposed rulemaking and will accept such comments provided they are submitted as specified in the DATES and ADDRESSES sections of this document. We will address all comments in our final rulemaking on the revisions to Virginia's maintenance plan.

EPA is proposing to approve the November 20, 2001 SIP revision to Virginia's 1-hour ozone maintenance plan for the Richmond area. EPA is soliciting public comments on the issues discussed in this document or on other relevant matters. These comments will be considered before taking final action. Interested parties may participate in the Federal rulemaking procedure by submitting written comments to the EPA Regional office listed in the ADDRESSES section of this document.

IV. Proposed Action

EPA is proposing to approve the revisions to Virginia's 1-hour ozone maintenance plan for the Richmond area submitted by the VA DEQ on November 20, 2001.

V. Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule on revisions to the Richmond maintenance plan does not impose an information collection burden under the provisions of the Paperwork Reduction Act of 1995 (44 U.S.C. 3501 et seq.).

List of Subjects in 40 CFR Part 52

Environmental protection, Air pollution control, Nitrogen dioxide, Ozone, Volatile organic compounds.

Authority: 42 U.S.C. 7401 et seq.

Dated: September 30, 2002.
Donald S. Welsh,
Regional Administrator, Region III.

[FR Doc. 02-25416 Filed 10-4-02; 8:45 am]

BILLING CODE 6560-50-P